DEPARTMENT OF HOMELAND SECURITY

[Docket Number DHS-2021-0015]

Agency Information Collection Activities: Public Perceptions of Emerging Technologies

AGENCY: Science and Technology Directorate (S&T), Department of Homeland Security (DHS).

ACTION: 60-Day notice and request for comments; 1640-NEW.

SUMMARY: DHS S&T will submit the following Information Collection Request (ICR) to the Office of Management and Budget (OMB) for review and clearance in accordance with the Paperwork Reduction Act of 1995. The survey will collect information from the public regarding applications of artificial intelligence, including facial recognition. DHS has already used or piloted AI-based technologies in several of its key functions, including customs and border protection, transportation security, and investigations. However, AI in general and facial recognition in particular are not without public controversy, including concerns about bias, security, and privacy. Therefore, understanding how the public perceives these technologies, and then designing and deploying them in a manner responsive to the public's concerns, is critical in gaining public support for DHS's use of these technologies.

DATES: Comments are encouraged and will be accepted until July 12, 2021. This process is conducted in accordance with 5 CFR 1320.1

ADDRESSES: You may submit comments, identified by docket number DHS-2021-0015 at:

○ Federal eRulemaking Portal: http://www.regulations.gov. Please follow the instructions for submitting comments.

Instructions: All submissions received must include the agency name and docket number DHS-2021-0015. All comments received will be posted without change to http://www.regulations.gov, including any personal information provided.

Docket: For access to the docket to read background documents or comments received, go to http://www.regulations.gov.

SUPPLEMENTARY INFORMATION: DHS, in accordance with the Paperwork Reduction Act (PRA), 44 U.S.C. 3501 et seq., provides the general public and Federal agencies with an opportunity to comment on proposed, revised, and continuing collections of information. DHS is soliciting comments on the proposed information collection request (ICR) that is described below. DHS is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology? Please note that written comments received in response to this notice will be considered public records.

Analysis

Agency: Department of Homeland Security (DHS).

Title: Public Perceptions of Emerging Technologies.

OMB Number: Insert.

Frequency: One per request.

Affected Public: Individuals and households.

Number of Respondents: 3000.

Estimated Time per Respondent: 12 minutes.

Total Burden Hours: 600.

Dated: May 7, 2021.
Gregg Piermarini,
Chief Information Officer, Science and Technology Directorate, Department of Homeland Security.

[FR Doc. 2021-10076 Filed 5-12-21; 8:45 am]

BILLING CODE P